ENVIRONMENTAL PROTECTION AGENCY

[FRL-7055-8]

Agency Information Collection Activities; EPA ICR No. 1669.03; OMB No. 2070-0158; ICR Renewal Submission to OMB; Comment Request

AGENCY: Environmental Protection Agency (EPA).

ACTION: Notice.

SUMMARY: In compliance with the Paperwork Reduction Act (44 U.S.C. 3501 et seq.), this document announces that the Information Collection Request (ICR) entitled: Lead-based Paint Pre-Renovation Information Dissemination—TSCA Sec. 406(b) (EPA ICR No. 1669.03; OMB Control No. 2070-0158), has been forwarded to the Office of Management and Budget (OMB) for review and approval pursuant to 5 CFR 1320.12. The ICR describes the nature of the information collection activity and its expected burden and cost. The Federal Register notice announcing the Agency's intent to seek OMB approval for this ICR, which also provided a 60-day comment period, was issued on January 2, 2001 (66 FR 105). EPA did not receive any comments on this ICR during the comment period.

DATES: Additional comments may be submitted on or before October 15, 2001.

FOR FURTHER INFORMATION CONTACT: Sandy Farmer at EPA by phone on (202) 260-2740 or by e-mail: farmer.sandy@epa.gov or access the ICR at http://www.epa.gov/icr/. Refer to EPA ICR No. 1669.03 and OMB Control No. 2070-0158.

ADDRESSES: Send your comments, referencing EPA ICR #1669.03, to: Ms. Sandy Farmer, U.S. Environmental Protection Agency, Office of Environmental Information, Collection Strategies Division (MC 2822), 1200 Pennsylvania Ave, NW., Washington, DC 20460.

And send a copy of your comments to: Office of Information and Regulatory Affairs, Office of Management and Budget (OMB), Attention: Desk Officer for EPA, 725 17th Street, NW., Washington, DC 20503.

SUPPLEMENTARY INFORMATION: Title: Lead-based Paint Pre-Renovation Information Dissemination—TSCA Sec. 406(b) (EPA ICR No. 1669.03; OMB No. 2070-0158). This is a request to extend an existing approval for a collection of information that is currently scheduled to expire on September 30, 2001. Under 5 CFR 1320.10(e)(2), the Agency may continue to conduct or sponsor the collection of information while the submission is pending at OMB.

Abstract: This information collection involves third-party notification to owners and occupants of housing that will allow these individuals to avoid exposure to lead-contaminated dust and lead-based paint debris that are sometimes generated during renovations of housing where lead-based paint is present, thereby protecting public health. Since young children are especially susceptible to the hazards of lead, owners and occupants with children can take action to protect their children from lead poisonings. Section 406(b) of the Toxic Substances Control Act (TSCA) requires EPA to promulgate regulations requiring certain persons who perform renovations of target housing for compensation to provide a lead hazard information pamphlet (developed under TSCA section 406(a)) to the owner and occupants of such housing prior to beginning the renovation. Responses to the collection of information are mandatory (see 40 CFR part 745, subpart E). Those who fail to provide the pamphlet as required may be subject to both civil and criminal sanctions.

An agency may not conduct or sponsor, and a person is not required to respond to a collection of information that is subject to approval under the PRA unless it displays a currently valid OMB control number. The OMB control numbers for EPA's information collections appear on the collection instruments or instructions, in the Federal Register notices for related rulemakings and ICR notices, and, if the collection is contained in a regulation, in a table of OMB approved numbers in 40 CFR part 9.

Burden Statement

The annual public reporting burden for this collection of information is estimated to average 0.96 hours per response. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

The ICR provides a detailed explanation of the collection activity and the estimated burden and costs associated with that collection activity, which are only briefly summarized here:

Respondents/Affected Entities: You may be potentially affected by this action if you perform renovations of certain types of housing, constructed prior to 1978, for compensation. Potentially affected categories and entities may include, but are not limited to: Single family housing construction (223321), Multifamily housing construction (23322), Plumbing, heating, and air-conditioning contractors, Painting and wall covering contractors (23521), Electrical contractors (23531), Masonry and stone contractors (23551), Carpentry contractors (23551), Lessors of residential buildings and dwellings (53111), Offices of real estate agents and brokers (53121), and, Residential property managers (53131). Other types of entities not listed could also be affected.

Frequency of Collection: On occasion.

Estimated burden/cost per response: 0.96 hours

Estimated annual number of potential responses: 3,046,000.

Estimated total annual burden hours: 2,938,546 hours.

Estimated annual capital costs: $9,231,000

Estimated total annual burden costs: $95,464,291.

Changes in Estimates From the Last Approval

The total burden associated with this ICR has increased from 2,331,597 hours in the previous ICR to 2,938,546 hours for this ICR. This adjustment in burden reflects adjustments in disclosure burden, with the current renewal assuming a higher disclosure burden for the rule. This increase is offset in part by decreases in first year start-up burden resulting from the elimination of start-up burden estimates for existing renovators and rental property managers (but not new entrants to these occupations), and an increase in the estimated number of renovation events.

Next Step in the Process for this ICR

After providing a 30 day opportunity for additional comments from the public, OMB will review and take action on the Agency's request. OMB may extend the expiration date month-to-month until they take action (see 5 CFR 1320.10(e)(2) and 1320.12(b)(2)). Periodically, EPA publishes a notice in the Federal Register listing recent OMB actions on the Agency's ICR submittals.

Dated: September 5, 2001.
Oscar Morales,
Director, Collection Strategies Division.

[FR Doc. 01-22997 Filed 9-12-01; 8:45 am]

BILLING CODE 6560-50-P